SECURITIES AND EXCHANGE COMMISSION

[SEC File No. 270-617, OMB Control No. 3235-0728]

Submission for OMB Review; Comment Request

Upon Written Request, Copies Available From: Securities and Exchange Commission, Office of FOIA Services, 100 F Street NE, Washington, DC 20549-2736

Extension:

Rule 17Ab2-2

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17Ab2-2 (17 CFR 240.17Ab2-2) under the Securities Exchange Act of 1934 (15 U.S.C. 78a et seq.).

Exchange Act Rule 17Ab2-2 establishes procedures for the Commission to make a determination, either of its own initiative or upon application by any clearing agency or member of a clearing agency, whether a covered clearing agency is systemically important in multiple jurisdictions and procedures to determine, if the Commission deems appropriate, whether any of the activities of a clearing agency providing central counterparty services, in addition to clearing agencies registered with the Commission for the purpose of clearing security-based swaps, have a more complex risk profile. In addition, Exchange Act Rule 17Ab2-2 provides a procedure for the Commission to determine whether to rescind any such determinations previously made by the Commission.

Because determinations made by the Commission pursuant to Exchange Act Rule 17Ab2-2 may be made upon the request of a clearing agency, respondent clearing agencies have the burden of preparing such requests for submission to the Commission.

Commission staff estimates that Rule 17Ab2-2 imposes a PRA burden on registered clearing agencies that seek a determination from the Commission regarding the covered clearing agency's status as systemically important in multiple jurisdictions. Commission staff estimates that two registered clearing agencies or their members on their behalf will apply for a Commission determination, or may be subject to a Commission-initiated determination, regarding whether a registered clearing agency is involved in activities with a more complex risk profile or whether a covered clearing agency is systemically important in multiple jurisdictions.

Commission staff estimates that each respondent clearing agency incurs a one-time burden of 10 hours and a one-time cost of $2,000 to draft and review a determination request submitted to the Commission, for a total of 20 hours and $4,000 for all respondents. The total annualized burden and cost for all respondents are 6.66 hours and $1,333.33.

Any agency may not conduct or sponsor, and a person is not required to respond to, a collection of information under the PRA unless it displays a valid OMB control number.

The public may view background documentation for this information collection at the following website: www.reginfo.gov. Comments should be directed to: (i) Desk Officer for the Securities and Exchange Commission, Office of Information and Regulatory Affairs, Office of Management and Budget, Room 10102, New Executive Office Building, Washington, DC 20503, or by sending an email to: Lindsay.M.Abate@omb.eop.gov and (ii) Charles Riddle, Acting Director/Chief Information Officer, Securities and Exchange Commission, c/o Cynthia Roscoe, 100 F Street NE, Washington, DC 20549, or by sending an email to: PRA_Mailbox@sec.gov. Comments must be submitted to OMB within 30 days of this notice.

Dated: November 29, 2019.
Jill M. Peterson,
Assistant Secretary.

[FR Doc. 2019-26223 Filed 12-3-19; 8:45 am]

BILLING CODE 8011-01-P